DEPARTMENT OF TRANSPORTATION

Surface Transportation Board

[Docket No. FD 35948]

Watco Holdings, Inc.—Continuance in Control Exemption—Cicero Central Railroad, L.L.C.

Watco Holdings, Inc. (Watco), a noncarrier, has filed a verified notice of exemption pursuant to 49 CFR 1180.2(d)(2) to continue in control of Cicero Central Railroad, L.L.C. (CCR), upon CCR's becoming a Class III rail carrier. Watco owns, indirectly, 100 percent of the issued and outstanding stock of CCR, a limited liability company.

This transaction is related to a concurrently filed verified notice of exemption in Cicero Central Railroad—Lease Exemption—Illinois Central Railroad, Docket No. FD 35947, wherein CCR seeks Board approval to lease and operate approximately 5,675 feet of rail line between the western edge of Cicero Avenue and the eastern edge of the Central Avenue overpass at or near Stickney, Ill.

The transaction may be consummated on or after November 18, 2015, the effective date of the exemption (30 days after the notice of exemption was filed).

Watco is a Kansas corporation that currently controls, indirectly, one Class II rail carrier and 32 Class III rail carriers, collectively operating in 23 states. For a complete list of these rail carriers, and the states in which they operate, see Watco's notice of exemption filed on October 19, 2015. The notice is available on the Board's Web site at WWW.STB.DOT.GOV.

Watco represents that: (1) The rail lines to be operated by CCR do not connect with any of the rail lines operated by the carriers in the Watco corporate family; (2) the continuance in control is not a part of a series of anticipated transactions that would result in such a connection; and (3) the transaction does not involve a Class I carrier. Therefore, the transaction is exempt from the prior approval requirements of 49 U.S.C. 11323. See 49 CFR 1180.2(d)(2).

Watco states that the purpose of the transaction is to reduce overhead expenses, coordinate billing, maintenance, mechanical, and personnel policies and practices of its rail carrier subsidiaries and thereby improve the overall efficiency of rail service provided by the railroads in the Watco corporate family.

Under 49 U.S.C. 10502(g), the Board may not use its exemption authority to relieve a rail carrier of its statutory obligation to protect the interests of its employees. Because the transaction involves the control of one Class II and one or more Class III rail carriers, the transaction is subject to the labor protection requirements of 49 U.S.C. 11326(b) and Wisconsin Central Ltd.—Acquisition Exemption—Lines of Union Pacific Railroad, 2 S.T.B. 218 (1997).

If the verified notice contains false or misleading information, the exemption is void ab initio. Petitions to revoke the exemption under 49 U.S.C. 10502(d) may be filed at any time. The filing of a petition to revoke will not automatically stay the effectiveness of the exemption. Petitions for stay must be filed by November 10, 2015 (at least seven days before the exemption becomes effective).

An original and 10 copies of all pleadings, referring to Docket No. FD 35948, must be filed with the Surface Transportation Board, 395 E Street SW., Washington, DC 20423-0001. In addition, a copy of each pleading must be served on Karl Morell, Karl Morell & Associates, 655 Fifteenth Street NW., Suite 225, Washington, DC 20005.

Board decisions and notices are available on our Web site at WWW.STB.DOT.GOV.

Decided: October 30, 2015.
By the Board, Rachel D. Campbell, Director, Office of Proceedings.
Kenyatta Clay,
Clearance Clerk.

[FR Doc. 2015-28039 Filed 11-3-15; 8:45 am]

BILLING CODE 4915-01-P